NATIONAL ARCHIVES AND RECORDS ADMINISTRATION

Office of Government Information Services

[NARA-2022-020]

Meeting; Chief Freedom of Information Act Officers Council

AGENCY: Office of Government Information Services (OGIS), National Archives and Records Administration (NARA), Office of Information Policy (OIP), U.S. Department of Justice (DOJ).

ACTION: Notice of meeting.

SUMMARY: We are announcing a public meeting with the co-chairs of the Chief Freedom of Information Act (FOIA) Officers Council, the Director of OGIS, and the Director of OIP.

DATES: The meeting will be on Wednesday, February 2, 2022, from 2:00 p.m. to 3:00 p.m. EST. Please register for the meeting no later than 11:59 p.m. EST on Monday, January 31, 2022 (see registration information below).

ADDRESSES: The February 2, 2022, meeting will be a virtual meeting. We will send access instructions to those who register according to the instructions below.

FOR FURTHER INFORMATION CONTACT: Martha Murphy, by email at CFO-Council@nara.gov with the subject line “Chief FOIA Officers Council Requester Meeting,” or by telephone at 202.741.5770.

SUPPLEMENTARY INFORMATION: The Freedom of Information Act directs the Chief FOIA Officers Council to “[d]evelop recommendations for increasing compliance and efficiency; disseminate information about agency experiences, ideas, best practices, and innovative approaches; identify, develop, and coordinate initiatives to increase transparency and compliance; and promote the development and use of common performance measures for agency compliance.” (5 U.S.C. 552(k)(5)(A)). In performing these duties, the Council “shall consult on a regular basis with members of the public who make [FOIA] requests.” (5 U.S.C. 552(k)(5)(B)). This meeting fulfills that requirement and is open to the public. Additional details about the Chief FOIA Officers Council and the meeting, including the agenda, are available on OGIS's website at https://www.archives.gov/ogis/about-ogis/chief-foia-officers-council and OIP's website at https://www.justice.gov/oip/chief-foia-officers-council.

Procedures: In order to participate, you must register through Eventbrite at https://cfo-council-meeting-feb-2-2022.eventbrite.com in advance (see deadline in DATES section above). You must include an email address so that we can provide you access information. To request additional accommodations (e.g., a transcript or close captioning), email CFO-Council@nara.gov or call 202-741-5770.

Alina M. Semo,
Director, Office of Government Information Services.

[FR Doc. 2022-01086 Filed 1-19-22; 8:45 am]

BILLING CODE 7515-01-P